DEPARTMENT OF AGRICULTURE

Submission for OMB Review; Comment Request

November 10, 2009.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: Negative Quality Control Review Schedule.

OMB Control Number: 0584-0034.

Summary of Collection: The legislative basis for the operation of the quality control system is provided by section 16 of the Food and Nutrition Act of 2008. State agencies are required to perform Quality Control (QC) reviews for the Supplemental Nutrition Assistance Program (SNAP). Section 275.21(a) requires State agencies to submit reports to enable the Food and Nutrition Service (FNS) to monitor their compliance with Program requirements relative to the Quality Control Review System. FNS will collect information using forms FNS-245 Negative Case Action Review Schedule and FNS-248 Status of Sample Selection and Completion.

Need and Use of the Information: FNS will collect information to record data in negative case reviews. Negative case actions include the denial, termination or suspension of benefits. FNS will also measure program operations and determination of a State's eligibility for enhanced administrative funding and to monitor the progress of sample selection and completion. If the information were not collected, it would delay the awarding of monetary incentives in which the negative error rate played a role.

Description of Respondents: State, Local, or Tribal Government; Federal Government; Individuals or households.

Number of Respondents: 53.

Frequency of Responses: Recordkeeping; Reporting: On occasion; Annually.

Total Burden Hours: 118,633.

Food and Nutrition Service

Title: Data Collection Related to Participation of Faith-Based and Community Organizations.

OMB Control Number: 0584-0540.

Summary of Collection: The Department of Agriculture, Food and Nutrition Service (FNS) issued a 60-day notice entitled “Data Collection related to Institutions and Organizations,” as part of the Department's efforts to fulfill its responsibilities under Executive Orders 13279 “Equal Protection of the Laws for Faith-Based and Community Organizations,” and Executive Order 13280, “Responsibilities of the Department of Agriculture and the Agency for International Development with Respect to Faith-Based and Community Initiatives. Additionally Executive Order 13280 charges the Department to give equal treatment to faith-based and community organizations that apply to participate in the Department's programs.

Need and Use of the Information: The data collected will enable FNS to identify the faith-based and community organizations participating in Federal nutrition assistance programs, determine the level of their participation, ensure that FNS' programs are open to all eligible organizations and evaluate the effectiveness of its technical assistance and outreach efforts. Without the data FNS will be hampered in its efforts to fully meet the requirements established by the aforementioned executive order and regulations.

Description of Respondents: Not-for-profit institutions; Individual or households; State, Local or Tribal Government.

Number of Respondents: 57.

Frequency of Responses: Reporting: Annually.

Total Burden Hours: 131,966.

Ruth Brown,
Departmental Information Collection Clearance Officer.

[FR Doc. E9-27507 Filed 11-16-09; 8:45 am]

BILLING CODE 3410-30-P